DEPARTMENT OF STATE

[Public Notice 7950]

Defense Trade Advisory Group; Notice of Open Meeting

Summary: The Defense Trade Advisory Group (DTAG) will meet in open session from 1:30 p.m. until 5 p.m. on Thursday, July 26, 2012, at 1777 F Street NW., Washington, DC. Entry and registration will begin at 1 p.m. The membership of this advisory committee consists of private sector defense trade representatives, appointed by the Assistant Secretary of State for Political-Military Affairs, who advise the Department on policies, regulations, and technical issues affecting defense trade. The purpose of the meeting will be to discuss current defense trade issues and topics for further study. Agenda topics will be posted on the Directorate of Defense Trade Controls' Web site, at www.pmddtc.state.gov approximately 10 days prior to the meeting.

Members of the public may attend this open session and will be permitted to participate in the discussion in accordance with the Chair's instructions. Members of the public may, if they wish, submit a brief statement to the committee in writing.

As seating is limited to 125 persons, those wishing to attend the meeting must notify the DTAG Alternate Designated Federal Officer (DFO) by COB Friday, July 20, 2012. Members of the public requesting reasonable accommodation must also notify the DTAG Executive Secretariat by that date. If notified after this date, the DTAG Secretariat will be unable to accommodate requests due to security requirements at the meeting location. A person requesting reasonable accommodation should notify the Alternate DFO by the same date.

Each non-member observer or DTAG member that wishes to attend this plenary session should provide: His/her name; company or organizational affiliation; phone number; date of birth; and identifying data such as driver's license number, U.S. Government ID, or U.S. Military ID, to the DTAG Alternate DFO, Patricia Slygh, via email at SlyghPC@state.gov. One of the following forms of valid photo identification will be required for admission to the meeting: U.S. driver's license, passport, U.S. Government ID or other valid photo ID. Personal data is requested pursuant to Public Law 99-399 (Omnibus Diplomatic Security and Antiterrorism Act of 1986), as amended; Public Law 107-56 (USA PATRIOT Act); and Executive Order 13356. The purpose of the collection is to validate the identity of individuals who attend Department functions.

For additional information, contact Patricia Slygh, PM/DDTC, SA-1, 12th Floor, Directorate of Defense Trade Controls, Bureau of Political-Military Affairs, U.S. Department of State, Washington, DC 20522-0112; telephone (202) 663-2830; FAX (202) 261-8199; or email SlyghPC@state.gov.

Dated: July 3, 2012.
Robert S. Kovac,
Designated Federal Officer, Defense Trade Advisory Group, Department of State.

[FR Doc. 2012-16976 Filed 7-10-12; 8:45 am]

BILLING CODE 4710-25-P